DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 5, 2008.

Interested persons are invited to submit written comments regarding the subject matter of the investigations to the Director, Division of Trade Adjustment Assistance, at the address shown below, not later than May 5, 2008. The petitions filed in this case are available for inspection at the Office of the Director, Division of Trade Adjustment Assistance, Employment and Training Administration, U.S. Department of Labor, Room C-5311, 200 Constitution Avenue, NW., Washington, DC 20210.

Signed at Washington, DC, this 16th day of April 2008.
Erin FitzGerald,
Acting Director, Division of Trade Adjustment Assistance.

Appendix
[TAA PETITIONS INSTITUTED BETWEEN 4/7/08 and 4/11/08]
TA-W | Subject firm (petitioners) | Location | Date of institution | Date of petition
63139 | Valspar—Furniture Sales Group & Int'l Color Design Center (Comp) | High Point, NC | 04/07/08 | 04/04/08
63140 | IntriCon Tibbetts Corporation (Comp) | Camden, ME | 04/07/08 | 04/01/08
63141 | GE Consumer and Industrial, GEA BPO-LLC (IBEW) | Bloomington, IN | 04/07/08 | 04/03/08
63142 | Kimball Electronics Tampa, Inc. (Comp) | Tampa, FL | 04/07/08 | 04/07/08
63143 | Powermate Corporation (State) | Kearney, NE | 04/07/08 | 04/04/08
63144 | Teletech@Home, Inc. (State) | Englewood, CO | 04/07/08 | 04/04/08
63145 | Jarden Plastic Solutions (Comp) | Tupper Lake, NY | 04/07/08 | 04/04/08
63146 | Perry Marketing Corporation (Comp) | Frisco, TX | 04/07/08 | 04/04/08
63147 | The Cutting Company, Inc. (18014) | Bath, PA | 04/07/08 | 04/04/08
63148 | Rosy Production, Inc. (Wkrs) | Brooklyn, NY | 04/07/08 | 03/03/08
63149 | Astro Air (Comp) | Jacksonville, TX | 04/08/08 | 03/05/08
63150 | Enercon (Comp) | Gray, ME | 04/08/08 | 04/07/08
63151 | Kretz Lumber Company, Inc. (Comp) | Antigo, WI | 04/08/08 | 04/07/08
63152 | Troy, LLC (USW) | Harrisville, WV | 04/08/08 | 04/07/08
63153 | General Electric Company Gicero Cal-Rod Plant (Comp) | Cicero, IL | 04/08/08 | 04/01/08
63154 | Advantage Printing (Comp) | Hickory, NC | 04/08/08 | 04/07/08
63155 | Amphenol-TCS (Comp) | Nashua, NH | 04/08/08 | 03/03/08
63156 | Temic Automotive of North America (NA), Inc. (Comp) | Elma, NY | 04/08/08 | 04/07/08
63157 | MEMC Electronic Materials (State) | St. Peters, MO | 04/08/08 | 04/04/08
63158 | Silver City Lumber, Inc. (Comp) | Three Forks, MT | 04/08/08 | 04/02/08
63159 | Ametek, Floorcare and Specialty Motors (Comp) | Kent, OH | 04/08/08 | 04/07/08
63160 | Vesuvius Buffalo (USW) | Buffalo, NY | 04/08/08 | 04/03/08
63161 | Elrae Industries, Inc. (Comp) | Alden, NY | 04/08/08 | 03/27/08
63162 | Whirlpool Corporation (Wkrs) | Cleveland, TN | 04/09/08 | 04/01/08
63163 | Saint-Gobain Performance Plastics (Comp) | Bristol, RI | 04/09/08 | 04/08/08
63164 | SB Acquisition, LLC (State) | Fryeburg, ME | 04/09/08 | 04/08/08
63165 | Maco Steel (Wkrs) | Belmont, MI | 04/09/08 | 03/27/08
63166 | Westminster Ceramics (State) | Bakersfield, CA | 04/09/08 | 04/08/08
63167 | Russell Corporation (Comp) | Alexander City, AL | 04/09/08 | 04/02/08
63168 | Akrion SCP Services (Comp) | Boise, ID | 04/09/08 | 04/08/08
63169 | Ford Batavia/Sharonville (UAW) | Batavia, OH | 04/10/08 | 04/09/08
63170 | General Electric (State) | Plainville, CT | 04/10/08 | 04/07/08
63171 | Wesley Mancini, Ltd (Wkrs) | Charlotte, NC | 04/10/08 | 04/09/08
63172 | Mueller Company (USW) | Decatur, IL | 04/10/08 | 04/09/08
63173 | Parker Hannifin Corporation (Comp) | Lebanon, TN | 04/10/08 | 04/08/08
63174 | Harvey Industries (Wkrs) | Wabash, IN | 04/10/08 | 04/09/08
63175 | R. Klein Jewelry Company (Comp) | Rockville Centre, NY | 04/10/08 | 04/09/08
63176 | Masonite International Corporation (Comp) | Mobile, AL | 04/11/08 | 04/07/08
63177 | Ryerson Steel (Wkrs) | Chicago, IL | 04/11/08 | 04/08/08
63178 | Pre-Press/PMG (Wkrs) | Plymouth, MA | 04/11/08 | 04/08/08

[FR Doc. E8-8774 Filed 4-22-08; 8:45 am]

BILLING CODE 4510-FN-P